DEPARTMENT OF TRANSPORTATION

Federal Aviation Administration

Civil Supersonic Aircraft Panel Discussion

AGENCY: Federal Aviation Administration (FAA), DOT.

ACTION: Notice of meeting participation.

SUMMARY: This notice advises interested persons that the FAA is participating in a panel session on civil supersonic aircraft research. The session will include presentations on current research programs and a question and answer session for attendees. The FAA is seeking to raise public awareness of the continuing technological advances in supersonic aircraft technology aimed at reducing the intensity of sonic boom.

DATES: The public session will take place on Wednesday, April 21, 2010. The panel discussion is from 7 p.m. to 8:30 p.m. in Baltimore, Maryland.

ADDRESSES: The symposium is sponsored by the joint meeting of the 159th Acoustical Society of America and NOISE-CON 2010 and it will be held at the Baltimore Marriott Waterfront Hotel, Grand Ballroom V, 700 Aliceanna Street, Baltimore, MD 21202. Attendance is open to all interested parties, and there are no fees to attend this session.

FOR FURTHER INFORMATION CONTACT: Laurette Fisher, Office of Environment and Energy (AEE-100), Federal Aviation Administration, 800 Independence Avenue, SW., Washington, DC 20591; facsimile (202) 267-5594, telephone (202) 267-3561.

Background: Since March 1973, supersonic flight over land by civil aircraft has been prohibited in the United States. The Concorde was the only civil supersonic airplane that offered service to the United States, but that airplane is no longer in service.

The interest in supersonic aircraft technology has not disappeared. Current research is dedicated toward reducing the impact of sonic booms as they reach the ground, in an effort to make overland flight acceptable. Recent research has produced promising results for low boom intensity, and has renewed interest in developing supersonic civil aircraft that could be considered environmentally acceptable for supersonic flight over land.

The FAA led its first panel discussion entitled, “State of the Art of Supersonics Aircraft Technology—What has progressed in science since 1973,” in Chicago, IL on Friday, October 24, 2008, as part of the O'Hare Noise Compatibility Commission Symposium. The second panel discussion was held in Palm Springs, CA on Sunday, March 1, 2009, as part of the Annual University of California Symposium on Aviation Noise and Air Quality.

The FAA's third presentation and panel discussion will take place on Wednesday, April 21, 2010, as part of the joint meeting of the 159th Acoustical Society of America and NOISE-CON 2010. It will be held at the Baltimore Marriott Waterfront Hotel, Grand Ballroom V, 700 Aliceanna Street, Baltimore, Maryland 21202.

The purpose of this panel session is to raise public awareness on advances in supersonic technology, and for the FAA, the National Aeronautics and Space Administration (NASA), and industry to get feedback from interested persons.

Public involvement is essential in any future definition of an acceptable new standard that would allow supersonic flights over land. We anticipate that this will be the second of many meetings informing the public on developments in the research of shaped sonic booms and other technical and environmental challenges that need to be addressed in developing a new supersonic airplane.

More information about the ASA/NOISE-CON joint meeting can be found at: http://asa.aip.org/Baltimore/Baltimore.html and http://www.inceusa.org/NC10/.

Issued in Washington, DC on February 18, 2010.
Lourdes Q. Maurice,
Acting Director of Environment and Energy.

[FR Doc. 2010-3726 Filed 2-23-10; 8:45 am]

BILLING CODE 4910-13-P